Title 3—

The President

Proclamation 8327 of December 5, 2008

Establishment of the World War II Valor In the Pacific National Monument

By the President of the United States of America

A Proclamation

Beginning at Pearl Harbor with the day of infamy that saw the sinking of the USS ARIZONA and ending on the deck of the USS MISSOURI in Tokyo Bay, many of the key battles of World War II were waged on and near American shores and throughout the Pacific. We must always remember the debt we owe to the members of the Greatest Generation for our liberty. Their gift is an enduring peace that transformed enemies into steadfast allies in the cause of democracy and freedom around the globe.

Americans will never forget the harrowing sacrifices made in the Pacific by soldiers and civilians that began at dawn on December 7, 1941, at Pearl Harbor on the island of Oahu. The surprise attack killed more than 2,000 American military personnel and dozens of civilians and thrust the United States fully into World War II.

America responded and mobilized our forces to fight side-by-side with our allies in the European, Atlantic, and Pacific theaters. The United States Navy engaged in epic sea battles, such as Midway, and our Armed Forces fought extraordinary land battles for the possession of occupied islands. These battles led to significant loss of life for both sides, as well as for the island's native peoples. Battlegrounds such as Guadalcanal, Tarawa, Saipan, Guam, Peleliu, the Philippines, Iwo Jima, and Okinawa are remembered for the heroic sacrifices and valor displayed there.

The conflict raged as far north as the Alaskan territory. The United States ultimately won the encounter in the Aleutian Island chain but not without protracted and costly battles.

There were also sacrifices on the home front. Tens of millions of Americans rallied to support the war effort, often at great personal cost. Men and women of all backgrounds were called upon as industrial workers, volunteers, and civil servants. Many Americans valiantly supported the war effort even as they struggled for their own civil rights.

In commemoration of this pivotal period in our Nation's history, the World War II Valor in the Pacific National Monument adds nine historic sites to our national heritage of monuments and memorials representing various aspects of the war in the Pacific.

Five of those sites are in the Pearl Harbor area, which is the home of both the USS ARIZONA and the USS MISSOURI—milestones of the Pacific campaign that mark the beginning and the end of the war. The sites in this area include: the USS ARIZONA Memorial and Visitor Center, the USS UTAH Memorial, the USS OKLAHOMA Memorial, the six Chief Petty Officer Bungalows on Ford Island, and mooring quays F6, F7, and F8, which constituted part of Battleship Row. The USS ARIZONA and USS UTAH vessels will not be designated as part of the national monument, but instead will be retained by the Department of Defense (through the Department of the Navy) as the final resting place for those entombed there.

Three sites are located in Alaska's Aleutian Islands. The first is the crash site of a Consolidated B-24D Liberator bomber—an aircraft of a type that played a highly significant role in World War II—located on Atka Island. The second is the site of Imperial Japan's occupation of Kiska Island, beginning in June 1942, which marks the northern limit of Imperial Japan's expansion in the Pacific. The Kiska site includes historic relics such as Imperial Japanese coastal and antiaircraft defenses, camps, roads, an airfield, a submarine base, a seaplane base, and other installations, as well as the remains of Allied defenses, including runway facilities and gun batteries.

The third Aleutian designation is on Attu Island, the site of the only land battle fought in North America during World War II. It still retains the scars of the battle: thousands of shell and bomb craters in the tundra; Japanese trenches, foxholes, and gun encampments; American ammunition magazines and dumps; and spent cartridges, shrapnel, and shells located at the scenes of heavy fighting. Attu later served as a base for bombing missions against Japanese holdings.

The last of the nine designations will bring increased understanding of the high price paid by some Americans on the home front. The Tule Lake Segregation Center National Historic Landmark and nearby Camp Tule Lake in California were both used to house Japanese-Americans relocated from the west coast of the United States. They encompass the original segregation center's stockade, the War Relocation Authority Motor Pool, the Post Engineer's Yard and Motor Pool, a small part of the Military Police Compound, several historic structures used by internees and prisoners of war at Camp Tule Lake, and the sprawling landscape that forms the historic setting.

WHEREAS much of the Federal property within the World War II Valor in the Pacific National Monument is easily accessible to visitors from around the world;

WHEREAS the Secretary of the Interior should be authorized and directed to interpret the broader story of World War II in the Pacific in partnership with the Department of Defense, the States of Hawaii, Alaska, and California, and other governmental and non-profit organizations;

WHEREAS the World War II Valor in the Pacific National Monument will promote understanding of related resources, encourage continuing research, present interpretive opportunities and programs for visitors to better understand and honor the sacrifices borne by the Greatest Generation, and tell the story from Pearl Harbor to Peace;

WHEREAS section 2 of the Act of June 8, 1906 (34 Stat. 225, 16 U.S.C. 431) (the “Antiquities Act”) authorizes the President, in his discretion, to declare by public proclamation historic landmarks, historic and prehistoric structures, and other objects of historic or scientific interest that are situated upon lands owned or controlled by the Government of the United States to be national monuments, and to reserve as a part thereof parcels of land, the limits of which in all cases shall be confined to the smallest area compatible with the proper care and management of the objects to be protected;

WHEREAS it is in the public interest to preserve the areas described above and on the attached maps as the World War II Valor in the Pacific National Monument;

NOW, THEREFORE, I, GEORGE W. BUSH, President of the United States of America, by the authority vested in me by section 2 of the Act of June 8, 1906 (34 Stat. 225, 16 U.S.C. 431), do proclaim that there are hereby set apart and reserved as the World War II Valor in the Pacific National Monument for the purpose of protecting the objects described above, all lands and interests in lands owned or controlled by the Government of the United States within the boundaries described on the accompanying maps, which are attached and form a part of this proclamation. The Federal lands and interests in land reserved consist of approximately 6,310 acres, which is the smallest area compatible with the proper care and management of the objects to be protected.

All Federal lands and interests in lands within the boundaries of this monument are hereby appropriated and withdrawn from all forms of entry, location, selection, sale, leasing, or other disposition under the public land laws, including, but not limited to, withdrawal from location, entry, and patent under mining laws, and from disposition under all laws relating to mineral and geothermal leasing.

Management of the National Monument

The Secretary of the Interior shall manage the monument through the National Park Service and the U.S. Fish and Wildlife Service, pursuant to applicable legal authorities, to implement the purposes of this proclamation. The National Park Service shall generally administer the national monument, except that the U.S. Fish and Wildlife Service shall administer the portions of the national monument that are within a national wildlife refuge. The National Park Service and the U.S. Fish and Wildlife Service may prepare an agreement to share, consistent with applicable laws, whatever resources are necessary to properly manage the monument.

For the purposes of preserving, interpreting, and enhancing public understanding and appreciation of the national monument and the broader story of World War II in the Pacific, the Secretary of the Interior, in consultation with the Secretary of Defense, shall prepare a management plan within 3 years of the date of this proclamation.

The Secretary of the Interior shall have management responsibility for the monument sites and facilities in Hawaii within the boundaries designated on the accompanying maps to the extent necessary to implement this proclamation, including the responsibility to maintain and repair the Chief Petty Officer Bungalows and other monument facilities. The Department of Defense may retain the authority to control access to those sites. The Department of the Interior through the National Park Service and the Department of the Navy may execute an agreement to provide for the operational needs and responsibilities of each Department in implementing this proclamation.

Armed Forces Actions

1. The prohibitions required by this proclamation shall not restrict activities and exercises of the Armed Forces (including those carried out by the United States Coast Guard).

2. All activities and exercises of the Armed Forces shall be carried out in a manner that avoids, to the extent practicable and consistent with operational requirements, adverse impacts on monument resources and qualities.

3. In the event of threatened or actual destruction of, loss of, or injury to a monument resource or quality resulting from an incident, including but not limited to spills and groundings, caused by a component of the Department of Defense or any other Federal agency, the cognizant component shall promptly coordinate with the Secretary of the Interior for the purpose of taking appropriate actions to respond to and mitigate the harm and, if possible, restore or replace the monument resource or quality.

4. Nothing in this proclamation or any regulation implementing it shall limit or otherwise affect the Armed Forces' discretion to use, maintain, improve, or manage any real property under the administrative control of a Military Department or otherwise limit the availability of such real property for military mission purposes.

The establishment of this monument is subject to valid existing rights.

Nothing in this proclamation shall be deemed to revoke any existing withdrawal, reservation, or appropriation; however, the national monument shall be the dominant reservation.

Nothing in this proclamation shall alter the authority of any Federal agency to take action in the monument area where otherwise authorized under applicable legal authorities, except as provided by this proclamation.

Warning is hereby given to all unauthorized persons not to appropriate, injure, destroy, or remove any feature of this monument and not to locate or settle upon any lands thereof.

IN WITNESS WHEREOF, I have hereunto set my hand this fifth day of December, in the year of our Lord two thousand eight, and of the Independence of the United States of America the two hundred and thirty-third.

[FR Doc. E8-29344

Filed 12-9-08; 8:45 am]

Billing code 4310-10-C